ENVIRONMENTAL PROTECTION AGENCY

[FRL-9688-5]

Notification of a Joint Public Meeting of the Chartered Science Advisory Board and Chartered Board of Scientific Counselors

AGENCY: Environmental Protection Agency (EPA).

ACTION: Notice of meeting.

SUMMARY: The Environmental Protection Agency (EPA) Science Advisory Board (SAB) Staff Office announces a joint public meeting of the Chartered SAB and the EPA's Office of Research and Development (ORD) Chartered Board of Scientific Counselors (BOSC) to provide advice on ORD's plans to implement its research program.

DATES: The public meeting will be held on Tuesday, July 10, 2012 from 8:30 a.m. to 5:30 p.m. and Wednesday, July 11, 2012 from 8:30 a.m. to 3:00 p.m. (Eastern Daylight Time).

ADDRESSES: The meeting will be held at the The Renaissance Raleigh North Hills Hotel, 4100 Main at North Hills Street, Raleigh, NC 27609.

FOR FURTHER INFORMATION CONTACT: Any member of the public who wishes further information concerning the meeting may contact Dr. Angela Nugent, Designated Federal Officer (DFO), EPA Science Advisory Board (1400R), U.S. Environmental Protection Agency, 1200 Pennsylvania Avenue NW., Washington, DC 20460; via telephone/voice mail (202) 564-2218, fax (202) 565-2098; or email at nugent.angela@epa.gov. General information concerning the SAB can be found on the EPA Web site at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The BOSC was established by the EPA to provide advice, information, and recommendations regarding the ORD research program. The SAB and BOSC are Federal Advisory Committees chartered under the Federal Advisory Committee Act (FACA), 5 U.S.C., App. 2. Pursuant to FACA and EPA policy, notice is hereby given that the chartered SAB and chartered BOSC will hold a joint public meeting to discuss advice on ORD's research programs. The SAB and BOSC will comply with the provisions of FACA and all appropriate SAB Staff Office procedural policies.

ORD has restructured its research programs to better understand environmental problems and inform sustainable solutions to meet EPA's strategic goals. The restructured research programs comprise six program areas: Air, Climate, and Energy; Safe and Sustainable Water Resources; Sustainable and Healthy Communities; Chemical Safety for Sustainability; Human Health Risk Assessment; and Homeland Security.

ORD requested that the SAB work jointly with the BOSC in 2011 to provide early advice on ORD strategic research directions. In response, the SAB and BOSC held a joint public meeting on June 29-30, 2011 (76 FR 32198-32199) and a public teleconference on September 19, 2011 (76 FR 54463) to develop a report, Office of Research and Development (ORD) New Strategic Research Directions: A Joint Report of the Science Advisory Board (SAB) and ORD Board of Scientific Councilors (BOSC), EPA-SAB-12-001. After receiving this advisory report, ORD requested SAB and BOSC additional advice on ORD's research implementation plans, efforts to strengthen program integration and efforts to strengthen and measure innovation. The SAB and BOSC will focus on those topics at the July 10-11, 2012 meeting.

Availability of Meeting Materials: A meeting agenda and other materials for the meeting will be placed on the SAB Web site at http://epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group providing advice, EPA's charge questions and EPA review or background documents. Input from the public to the SAB will have the most impact if it consists of comments that provide specific scientific or technical information or analysis for the SAB panel to consider or if it relates to the clarity or accuracy of the technical information. Members of the public wishing to provide comment should contact the DFO for the relevant advisory committee directly. Oral Statements: In general, individuals or groups requesting an oral presentation at a public meeting will be limited to five minutes. To be placed on the public speaker list for the July 10-11, 2012 meeting, interested parties should notify Dr. Angela Nugent, DFO, by email no later than July 3, 2012. Written Statements: Written statements for the July 10-11, 2012 meeting should be received in the SAB Staff Office by July 3, 2012, so that the information may be made available to the SAB and BOSC for their consideration prior to this meeting. Written statements should be supplied to the DFO in the following formats: one hard copy with original signature and one electronic copy via email (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Dr. Nugent at the phone number or email address noted above, preferably at least ten days prior to the meeting, to give EPA as much time as possible to process your request.

Dated: June 11, 2012.
Thomas H. Brennan,
Deputy Director, EPA Science Advisory Board Staff Office.

[FR Doc. 2012-14821 Filed 6-15-12; 8:45 am]

BILLING CODE 6560-50-P